ENVIRONMENTAL PROTECTION AGENCY

40 CFR Part 52

[EPA-R05-OAR-2006-0004; FRL-8176-4]

Approval and Promulgation of Air Quality Implementation Plans; Indiana

AGENCY: Environmental Protection Agency (EPA).

ACTION: Direct final rule.

SUMMARY: EPA is approving revisions to the Indiana State Implementation Plan (SIP) for ozone. In these revisions, the State has incorporated changes EPA made to its definition of volatile organic compound (VOC) and its list of Hazardous Air Pollutants (HAP). As a result of EPA's approval, five chemical compounds will no longer be considered VOCs and one compound will no longer be considered a HAP under Indiana's SIP.

DATES: This direct final rule will be effective August 11, 2006, without further notice, unless EPA receives adverse comment by July 12, 2006. If adverse comment is received, EPA will publish a timely withdrawal of the direct final rule in the Federal Register informing the public that the rule will not take effect.

ADDRESSES: Submit your comments, identified by Docket ID No. EPA-R05-OAR-2006-0004, by one of the following methods:

• http://www.regulations.gov: Follow the online instructions for submitting comments.

• E-mail: mooney.john@epa.gov.

• Fax: (312) 886-5824.

• Mail: John M. Mooney, Chief, Criteria Pollutant Section, (AR-18J), U.S. Environmental Protection Agency, 77 West Jackson Boulevard, Chicago, Illinois 60604.

• Hand Delivery: John M. Mooney, Chief, Criteria Pollutant Section, (AR-18J), U.S. Environmental Protection Agency, 77 West Jackson Boulevard, Chicago, Illinois 60604. Such deliveries are only accepted during the Regional Office's normal hours of operation, and special arrangements should be made for deliveries of boxed information. The Regional Office's official hours of business are Monday through Friday, 8:30 a.m. to 4:30 p.m. excluding Federal holidays.

Instructions: Direct your comments to Docket ID No. EPA-R05-OAR-2006-0004. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Matt Rau, Environmental Engineer, at (312) 886-6524 before visiting the Region 5 office.

SUPPLEMENTARY INFORMATION: Throughout this document whenever “we,” “us,” or “our” is used, we mean EPA. This supplementary information section is arranged as follows:

I. What Should I Consider as I Prepare My Comments for EPA?

II. What Is EPA Approving?

III. What Is the Background for this Action?

IV. What Is EPA's Analysis of the State Submission?

V. What Are the Environmental Effects of These Actions?

VI. What Action Is EPA Taking Today?

VII. Statutory and Executive Order Reviews

I. What Should I Consider as I Prepare My Comments for EPA?

A. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

• Identify the rulemaking by docket number and other identifying information (subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. What Is EPA Approving?

EPA is approving revisions to Indiana's definitions for “VOC” and “nonphotochemically reactive hydrocarbons,” as well as its HAP list. By incorporating by reference 40 CFR 51.100(s), the following four VOC compounds will no longer be considered VOCs under Indiana SIP rules 326 IAC 1-2-48 (“nonphotochemically reactive hydrocarbons”) and 326 IAC 1-2-90 (“Volatile organic compound”), and sources of these compounds will not have to follow any of the VOC requirements when using these compounds: 1,1,1,2,2,3,3-heptafluoro-3-methoxy-propane; 3-ethoxy-1,1,1,2,3,4,4,5,5,6,6,6-dodecafluoro-2-(trifluoromethyl) hexane; 1,1,1,2,3,3,3-heptafluoropropane; and methyl formate.

In addition, Indiana has revised 326 IAC 1-2-48 and 1-2-90 to incorporate by reference 40 CFR 51.100(s)(5),such that sources of t-butyl acetate will no longer be subject to VOC emission or content limits. Such sources will, however, still need to follow VOC record keeping, emission reporting, and inventory requirements.

Indiana has also revised 326 IAC 1-2-48 to incorporate by reference 40 CFR 51.100(s)(2), such that sources may exclude neglibly photochemically reactive compounds that are measured as VOC during a compliance test.

Finally, Indiana has revised its definition of “hazardous air pollutant” or “HAP” in 326 IAC 1-2-33.5 to incorporate by reference 40 CFR 63.63, such that the compound ethylene glycol monobutyl ether (EGBE) will no longer be on its list of HAPs.

III. What Is the Background for This Action?

Indiana's requested revisions to the VOC definitions and list of HAPs adopt changes that EPA made on November 29, 2004. In the first action (69 FR 69298), EPA added four chemicals to the list of excluded compounds at 40 CFR 51.100(s)(1), on the basis that these compounds make a negligible contribution to tropospheric ozone formation. These are: 1,1,1,2,2,3,3-heptafluoro-3-methoxy-propane; 3-ethoxy-1,1,1,2,3,4,4,5,5,6,6,6-dodecafluoro-2-(trifluoromethyl) hexane; 1,1,1,2,3,3,3-heptafluoropropane; and methyl formate.

In the second action (69 FR 69304), EPA modified the definition of VOC at 40 CFR 51.100(s)(5) to exclude t-butyl acetate as a VOC for purposes of VOC emission limitations or VOC content requirements. While EPA determined that t-butyl acetate has a negligible contribution to tropospheric ozone formation, it also concluded that the compound should still be subject to all record keeping, emissions reporting, modeling, and inventory VOC requirements.

In the third action (69 FR 69325), EPA amended 40 CFR Part 63 to remove EGBE from the HAP list (40 CFR 63.63). This was the result of EPA's determination that emissions, ambient concentrations, bioaccumulation, or deposition of EGBE may not reasonably be anticipated to cause any adverse effects to the human health or adverse environmental effects. 69 FR at 69321.

Finally, on February 3, 1992, EPA amended 40 CFR 51.100 by adding paragraph (s)(2), such that sources may exclude negligibly photochemically reactive compounds that are measured as VOC during a compliance test (57 FR 3945).

IV. What Is EPA's Analysis of the State Submission?

Indiana's requested revisions incorporate by reference the following federal regulations: 40 CFR 51.100(s)(1), the de-listing of four compounds formerly considered VOCs; 40 CFR 51.100(s)(2), the authority to exclude negligibly photochemically reactive compounds that are measured as VOC during a compliance test; 40 CFR 51.100(s)(5), the modification of the definition of VOC concerning t-butyl acetate; and 40 CFR 63.63, the removal of EGBE from the HAP list. They are, therefore, approvable as revisions to Indiana's SIP.

V. What Are the Environmental Effects of These Actions?

Volatile organic compounds are precursors to ozone formation. Complex photochemical reactions involving VOCs form tropospheric ozone. EPA has determined that the five compounds make a negligible contribution to ozone formation. Thus, the compounds are no longer considered to be VOCs.

Ozone decreases lung function, causing chest pain and coughing. It can aggravate asthma, reduce lung capacity, and increase risk of respiratory diseases like pneumonia and bronchitis. Children playing outside and healthy adults who work or exercise outside also may be harmed by elevated ozone levels. Ozone also reduces vegetation growth in economically important agricultural crops and wild plants.

Exposure to HAPs at sufficient concentration and duration may increase the risk of cancer and other serious health effects. These health effects include damage to the immune system and neurological, reproductive, developmental, and respiratory health problems. Drinking water can be contaminated by HAPs. In addition, some HAPs can enter the food chain through the exposure of crops and animals. Animals can suffer health effects from HAP exposure similar to the effects in humans.

VI. What Action Is EPA Taking Today?

EPA is approving, through direct final rulemaking, revisions to the Indiana ozone and hazardous air pollutant regulations. As a result of EPA's approval of Indiana's SIP submission, four compounds are no longer considered to be VOCs and a fifth compound is not subject to VOC content and emission limits but will still be subject to other requirements. In addition, EGBE will no longer be considered a HAP.

We are publishing this action without prior proposal because we view this as a noncontroversial amendment and anticipate no adverse comments. However, in the proposed rules section of this Federal Register publication, we are publishing a separate document that will serve as the proposal to approve the state plan if relevant adverse written comments are filed. This rule will be effective August 11, 2006 without further notice unless we receive relevant adverse written comments by July 12, 2006. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective August 11, 2006.

VII. Statutory and Executive Order Reviews

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175 Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132 Federalism

This action also does not have Federalism implications because it does not have substantial direct effects on the states, on the relationship between the national government and the states, or on the distribution of power and responsibilities among the various levels of government, as specified in Executive Order 13132 (64 FR 43255, August 10, 1999). This action merely approves a state rule implementing a federal standard, and does not alter the relationship or the distribution of power and responsibilities established in the Clean Air Act.

Executive Order 13045 Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 11, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Volatile organic compounds.

Dated: May 17, 2006.
Norman Niedergang,
Acting Regional Administrator, Region 5.

For the reasons stated in the preamble, part 52, chapter I, of title 40 of the Code of Federal Regulations is amended as follows:

PART 52—[AMENDED]

1. The authority citation for part 52 continues to read as follows:

Authority: 42 U.S.C. 7401 et seq.

Subpart P—Indiana

2. Section 52.770 is amended by adding paragraph (c)(176) to read as follows:

§ 52.770 Identification of plan.

* * * * *

(c) * * *

(176) On December 21, 2005, Indiana submitted revised regulations that incorporate by reference 40 CFR 51.100(s)(1), as amended at 69 FR 69298. As a result, the compounds, 1,1,1,2,2,3,3-heptafluoro-3-methoxy-propane, 3-ethoxy-1,1,1,2,3,4,4,5,5,6,6,6-dodecafluoro-2-(trifluoromethyl)hexane, 1,1,1,2,3,3,3-heptafluoropropane, and methyl formate, are added to the list of “nonphotochemically reactive hydrocarbons” or “negligibly photochemically reactive compounds” in 326 IAC 1-2-48 and these compounds are deleted from the list of VOCs in 326 IAC 1-2-90. Companies producing or using the four compounds will no longer need to follow the VOC rules for these compounds.

The requirements in 326 IAC 1-2-48 and 1-2-90 were also modified for the compound t-butyl acetate. It is not considered a VOC for emission limits and content requirements. T-butyl acetate will still be considered a VOC for the recordkeeping, emissions reporting, and inventory requirements.

Indiana is also revising 326 IAC 1-2-33.5 to remove ethylene glycol monobutyl ether from its HAP list. This chemical will no longer be considered a hazardous air pollutant.

(i) Incorporation by reference.

(A) Indiana Administrative Code Title 326: Air Pollution Control Board, Article 1: General Provisions, Rule 2: Definitions, Section 33.5: “‘Hazardous air pollutant’ or ‘HAP’ defined,” and Section 48: “‘Nonphotochemically reactive hydrocarbons’ or ‘negligibly photochemically reactive compounds’ defined,” and Section 90: “‘Volatile organic compound’ or ‘VOC' defined.” Filed with the Secretary of State on October 20, 2005 and effective November 19, 2005. Published in 29 Indiana Register 795-797 on December 1, 2005.

[FR Doc. 06-5252 Filed 6-9-06; 8:45 am]

BILLING CODE 6560-50-P